DEPARTMENT OF JUSTICE

Federal Bureau of Prisons

Notice of Intent To Prepare a Draft Environmental Impact Statement

AGENCY: Federal Bureau of Prisons, U.S. Department of Justice.

ACTION: Notice of intent to prepare a draft environmental impact statement.

SUMMARY: Notice of Intent to Prepare a Draft Environmental Impact Statement (DEIS) for development of a Federal Correctional Institution and Federal Prison Camp by the U.S. Department of Justice, Federal Bureau of Prisons (BOP). Land under consideration for development consists of areas located on BOP-owned property comprising the U.S. Penitentiary (USP) in Leavenworth, Kansas.

Background

The Federal Bureau of Prisons (BOP) is responsible for carrying out judgments of the federal courts whenever a period of confinement is ordered. The mission of the BOP is to protect society by confining offenders in the controlled environments of prisons and community-based facilities that are safe, humane, cost-efficient and appropriately secure, and that provide work and other self-improvement opportunities to assist offenders in becoming law-abiding citizens.

The BOP is facing continuous growth in the number of federal inmates with projections showing the federal inmate population increasing from 210,227 inmates at the end of fiscal year 2010 to over 226,000 inmates by the end of fiscal year 2013. As such, the demand for bedspace within the federal prison system continues to grow at a significant rate. At the present time, the federal inmate population exceeds the combined rated capacities of the existing 116 federal correctional facilities.

The federal inmate population has grown dramatically over the past two decades. While the BOP is no longer experiencing the dramatic population increases of between 10,000 and 11,000 inmates per year that occurred from 1998 to 2001, the increases are still significant and a net growth of over 6,000 inmates is projected for FY 2011 and 5,600 is projected for FY 2012. The federal inmate population is projected to increase and continue to exceed the rated capacity of the BOP's 116 institutions and current contract facilities. Currently, the BOP is 36 percent above rated capacity system-wide in the federal prison system, 43 percent over rated capacity at medium security facilities, and 53 percent over rated capacity at high security institutions. As in the past, the BOP will continue to increase the number of beds through additional contract beds, acquisition and adaptation of existing facilities, and new prison construction as funding permits. Adding capacity through these various means, allows the BOP the opportunity to work towards keeping prison crowding at manageable levels to ensure both public safety and the safety of inmates within the BOP institutions.

In the face of the continuing increase in the federal prison population, one way the BOP has expanded its capacity is through construction of new institutions. As part of this effort, the BOP has a facilities planning program featuring the identification and evaluation of sites for new facilities. The BOP routinely identifies prospective sites that may be appropriate for development of new federal correctional facilities determined by the need for such facilities in various parts of the country and the resources available to meet that need.

The BOP routinely screens and evaluates private and public properties located throughout the nation for possible use and development. Over the past decade, the BOP has examined prospective sites for new correctional facilities development in Alabama, Kentucky, New Hampshire, Arizona, Mississippi, West Virginia, California and other locations around the country and has undertaken environmental impact studies in compliance with the National Environmental Policy Act of 1969, as amended.

Proposed Action

The BOP is facing increased bedspace shortages throughout the federal prison system. Over the past decade, a significant influx of inmates has entered the federal prison system with a large portion of this influx originating from the north central region of the United States. In response, the BOP has committed significant resources to identifying and developing sites for new federal correctional facilities within this region including development of facilities in Florence, Colorado; Terre Haute, Indiana; Greenville, Illinois; and Waseca, Minnesota. Even with the development of new and expanded facilities, projections show the federal inmate population continuing to increase, placing additional demands for bedspace within the BOP's North Central Region.

In response, the BOP has undertaken preliminary investigations in an effort to identify prospective sites capable of accommodating federal correctional facilities and communities willing to host such facilities. Through this process, the BOP has identified potential locations for development of new federal correctional facilities and several sites are under active consideration. These potential sites were subjected to initial studies by the BOP and those considered suitable for correctional facility development will be evaluated further by the BOP in a DEIS that will analyze the potential impacts of facility construction and operation.

The Process

The process of evaluating the potential environmental impacts associated with federal correctional facility development and operation involves the analysis of many factors and features including, but not limited to: Topography, geology, soils, hydrology, biological resources, cultural resources, hazardous materials, visual and aesthetics features, fiscal considerations, population/employment/housing characteristics, community services and facilities, land uses, utility services, transportation systems, meteorological conditions, air quality, and noise.

Alternatives

In developing the DEIS, the No Action alternative, other actions considered and eliminated, and alternative development areas for the proposed Federal Correctional Institution and Federal Prison Camp will be examined. The areas examined will consist of BOP-owned property contiguous to the existing Leavenworth Institution and will be further defined in the EIS process.

Scoping Process

During the preparation of the DEIS, there will be opportunities for public involvement in order to determine the issues to be examined. A Public Scoping Meeting will be held at 7 p.m., January 20, 2011, at the Riverfront Community Center (123 S. Esplanade Street, Leavenworth, Kansas). The meeting location, date, and time will be well-publicized and have been arranged to allow for the public as well as interested agencies and organizations to attend and formally express their views on the scope and significant issues to be studied as part of the DEIS process. The Scoping Meeting is being held to provide for timely public comments and understanding of federal plans and programs with possible environmental consequences as required by the National Environmental Policy Act of 1969, as amended, and the National Historic Preservation Act of 1966, as amended.

Availability of DEIS

Public notice will be given concerning the availability of the DEIS for public review and comment.

Contact

Questions concerning the proposed action and the DEIS may be directed to: Richard A. Cohn, Chief, or Bridgette Lyles, Site Selection Specialist, Capacity Planning and Site Selection Branch, U.S. Department of Justice, Federal Bureau of Prisons, 320 First Street, NW., Washington, DC 20534, Telephone: 202-514-6470/Facsimile: 202-616-6024/E-mail: siteselection@bop.gov.

Dated: December 17, 2010.
Richard A. Cohn,
Chief, Capacity Planning and Site Selection.

[FR Doc. 2010-32317 Filed 12-28-10; 8:45 am]

BILLING CODE P